DEPARTMENT OF THE TREASURY

Submission for OMB Review; Comment Request

July 11, 2003.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW, Washington, DC 20220.

DATES: Written comments should be received on or before August 18, 2003 to be assured of consideration.

Departmental Offices/Community Development Financial Institutions (CDFI) Fund

OMB Number: 1559-0016.

Form Number: CDFI 0020.

Type of Review: Reinstatement.

Title: New Markets Tax Credit (NMTC) Program Allocation Application.

Description: The purpose of the NMTC is to provide an incentive to investors in the form of a tax credit, which is expected to stimulate investment in private capital that will facilitate economic and community development in low-income communities.

Respondents: Business or other for-profit, Not-for-profit institutions, State, Local or Tribal Government.

Estimated Number of Respondents: 350.

Estimated Burden Hours Per Respondent: 100 hours.

Frequency of Response: Annually.

Estimated Total Reporting/Recordkeeping Burden: 31,500 hours.

Clearance Officer: Lois K. Holland, Departmental Offices, Room 2110, 1425 New York Avenue, NW., Washington, DC 20220, (202) 622-1563.

OMB Reviewer: Joseph F. Lackey, Jr., Office of Management and Budget, Room 10235, New Executive Office Building, Washington, DC 20503, (202) 395-7316.

Lois K. Holland,
Treasury PRA Clearance Officer.

[FR Doc. 03-18245 Filed 7-17-03; 8:45 am]

BILLING CODE 4811-16-P